DEPARTMENT OF TRANSPORTATION

Maritime Administration

[Docket No. MARAD-2007-27875]

Information Collection Available for Public Comments and Recommendations

ACTION: Notice and request for comments.

SUMMARY: In accordance with the Paperwork Reduction Act of 1995, this notice announces the Maritime Administration's (MARAD) intention to request the Office of Management and Budget's (OMB) approval for a new information collection related to the availability of mariners.

DATES: Comments should be submitted on or before June 15, 2007.

FOR FURTHER INFORMATION CONTACT: Jean McKeever, Maritime Administration, MAR-700, 400 Seventh Street, SW., Washington, DC 20590. Telephone: (202) 366-5737, fax: (202) 366-7901; or e-mail: jean.mckeever@dot.gov Copies of this collection can also be obtained from that office.

SUPPLEMENTARY INFORMATION: Title of Collection: MARAD Maritime Operator Survey Concerning Mariner Availability.

Type of Request: New Collection.

OMB Control Number: 2133—New.

Form Numbers: MA-1048.

Expiration Date of Approval: Three years from date of approval by the Office of Management and Budget.

Summary of Collection of Information: Part of the stated statutory policy of the Merchant Marine Act, 1936, is to foster the development and maintenance of an adequate U.S.-flag merchant marine manned with trained and efficient citizen personnel. In order to successfully meet this mandate, MARAD must determine whether a current or projected shortage of mariners exists and if there is an operational or business impact on the merchant marine. MARAD believe that a brief preliminary survey is necessary at this time because it has received an abundance of anecdotal information indicating that there is a serious existing and projected mariner shortage in different market sectors. If the preliminary survey indicates that there is a projected shortage that appears to be more than short-term, MARAD will follow-up with a more detailed survey to analyze the shortage and ascertain the best means to address it.

Need and Use of the Information: The new data collection will rely on a written survey and telephone follow-up. The survey will request the respondents to provide information such as: (1) Future plans to hire mariners; (2) past difficulty in hiring mariners; (3) expectations of future difficulty in hiring mariners; (4) impact on business operations and plans; and (5) suggestions for solutions.

Description of Respondents: The target population for the survey will be approximately 100 vessel operating companies representing different sectors of the U.S. maritime industry.

Annual Responses: 100.

Annual Burden: 33.34 hours.

Comments: Comments should refer to the docket number that appears at the top of this document. Written comments may be submitted to the Docket Clerk, U.S. DOT Dockets, Room PL-401, 400 Seventh Street, SW., Washington, DC 20590. Comments also may be submitted by electronic means via the Internet at http://dms.dot.gov/submit. Specifically address whether this information collection is necessary for proper performance of the functions of the agency and will have practical utility, accuracy of the burden estimates, ways to minimize this burden, and ways to enhance the quality, utility, and clarity of the information to be collected. All comments received will be available for examination at the above address between 10 a.m. and 5 p.m. EDT (or EST), Monday through Friday, except Federal holidays. An electronic version of this document is available on the World Wide Web at http://dms.dot.gov.

Privacy Act

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://www.dms.dot.gov.

(Authority: 49 CFR 1.66)

Dated: April 11, 2007.
By Order of the Maritime Administrator.
Christine Gurland,
Acting Secretary, Maritime Administration.

[FR Doc. E7-7154 Filed 4-13-07; 8:45 am]

BILLING CODE 4910-81-P